GENERAL SERVICES ADMINISTRATION

[Notice-MV-2019-01; Docket No. 2019-0002; Sequence No. 28]

Notice of Announcement of Industry Engagement Event

AGENCY: Office of Governmentwide Policy (OGP), General Services Administration (GSA).

ACTION: Meeting notice.

SUMMARY: GSA is hosting an industry engagement event to highlight how section 889 of Title VII of the NDAA for FY 2019 (hereinafter Sec. 889) will affect GSA's business and supply chain. Toward that end, GSA invites industry partners and associations to join in a broad based dialogue.

DATES: This industry engagement event will be held on Wednesday, November 6, 2019, from 9:00 a.m. to 11:00 a.m., Eastern Standard Time (EST).

ADDRESSES: The meeting will be held in the Department of Interior (DOI) Yates Auditorium at 1849 C St. NW, Washington, DC 20240. There is no virtual attendance for this meeting. Information about the industry event can be found under the heading SUPPLEMENTARY INFORMATION.

FOR FURTHER INFORMATION CONTACT: Ms. Maria Swaby, GSA Procurement Ombudsman, 202-208-0291 or Mr. Michael Thompson, Senior Policy Advisor, 202-208-1568.

SUPPLEMENTARY INFORMATION:

Background

The National Defense Authorization Act (NDAA) for Fiscal Year 2019, Title VII, Section 889, Prohibition on certain telecommunications and video surveillance services or equipment, identifies sources of “covered telecommunications equipment or services” and, in paragraph (a)(1)(B), states that, as of August 13, 2020, “The head of an executive agency may not enter into a contract (or extend or renew a contract) with an entity that uses any equipment, system, or service that uses covered telecommunications equipment or services as a substantial or essential component of any system, or as critical technology as part of any system.”

GSA is seeking to build industry awareness of this statutory language and hear different perspectives on the business impact on GSA and its supply chain. This meeting is NOT part of the FAR Rule-Making process. Rather it is specifically focused on GSA contractors and on the GSA mission.

GSA invites industry representatives, including representatives from the leasing, construction, IT, and professional services community, to share their thoughts. Attendees will also have the opportunity to share their thoughts.

GSA is particularly interested in the following questions:

• If (a)(1)(B) of Section 889 prohibits use by an entity of covered telecommunications equipment or services at any tier, including use that is unrelated to the performance of any GSA contract:

○ How would this impact your business, and therefore GSA's mission?

○ What are some of the challenges involved in identifying covered equipment?

○ How would your industry likely be impacted and how will this affect GSA's competition?

○ Would this impact your plans to do future business with the GSA?

○ What is your anticipated cost for compliance with this prohibition?

○ How long would it take to remove covered equipment from all levels of your supply chain on GSA contracts?

○ Are there specific use cases in the supply chain where it would not be feasible to remove the covered equipment?

• How does GSA make industry more aware of the prohibition?

Registration

To ensure adequate room accommodations, individuals wishing to attend the public meeting must register by October 28, 2019. To register, please visit the GSA Interact web page at https://interact.gsa.gov/GSA889Industryengagement and utilize the registration link provided. It is free to attend this public meeting. Sign up early as space is limited, and registration will close once the capacity for the DOI Auditorium has been reached. Members of the press must also RSVP to press@gsa.gov by October 28, 2019.

GSA will share the agenda and list of presenters prior to the meeting on the GSA Interact web page at https://interact.gsa.gov/GSA889Industryengagement. Meeting attendees will also have the opportunity to speak during the engagement event.

Meeting Attendance

Registration check-in will begin at 8 a.m., EST, on November 6, 2019, with the meeting starting promptly at 9 a.m. EST. Information on getting to the DOI building can be found at https://www.doi.gov/interiormuseum/Plan-a-Visit. Attendees must present a valid form of government-issued photo identification. There is no food or drink allowed in the DOI Yates Auditorium. There is no parking available at DOI; however, there is public parking available nearby.

Format

GSA intends to conduct a very brief overview of the Sec. 889 prohibition and the threat it is protecting against. This presentation will be followed by a discussion by a panel comprised of industry experts and a GSA moderator addressing, among other things, the questions in Section A above. Attendees will be provided an opportunity to engage in discussions at the end of the panel discussion. A copy of the agenda will be posted prior to the date of the meeting on the GSA Interact web page at https://interact.gsa.gov/GSA889Industryengagement.

Special Accommodations

The industry engagement event is physically accessible to people with disabilities. Request for sign language interpretation or other auxiliary aids should be directed to zachary.marks@gsa.gov by Friday, October 25, 2019. Please see the GSA Interact web page at https://interact.gsa.gov/GSA889Industryengagement for additional information on this industry engagement event content and for a posting of the agenda (to be made available a few days prior to the event).

Jeffrey Koses,
Senior Procurement Executive, Office of Acquisition Policy, Office of Governmentwide Policy.

[FR Doc. 2019-23127 Filed 10-22-19; 8:45 am]

BILLING CODE 6820-61-P